FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 29, 2003.

A. Federal Reserve Bank of Cleveland (Stephen J. Ong, Vice President) 1455 East Sixth Street, Cleveland, Ohio 44101-2566:

1. David Bryan Cook; J.D. Cook Testamentary Trust, David B. Cook, Trustee; Bobbie Jean Cook; David Alexander Cook, all of Middlesboro, Kentucky, and Erin Elizabeth Bell, Louisville, Kentucky; to retain control of the voting shares of HFB Financial Corporation, Middlesboro, Kentucky, and thereby indirectly retain control of the voting shares of Home Federal Bank Corporation, Middlesboro, Kentucky.

B. Federal Reserve Bank of Atlanta (Sue Costello, Vice President) 1000 Peachtree Street, N.E., Atlanta, Georgia 30303:

1. G. Harrison Scott; Shannon R. Scott; Sharry R. Scott; and J. Slade Lewis, all of Slidell, Louisiana, also known as The Scott Family Limited Liability Partnership; to acquire voting shares of BOL Bancshares, Inc., New Orleans, Louisiana, and thereby indirectly acquire voting shares of Bank of Louisiana, New Orleans, Louisiana.

Board of Governors of the Federal Reserve System, January 9, 2003.
Robert deV. Frierson,
Deputy Secretary of the Board.

[FR Doc. 03-742 Filed 1-14-03; 8:45 am]

BILLING CODE 6210-01-S